DEPARTMENT OF AGRICULTURE

Foreign Agricultural Service

Reestablishment of the Edward R. Madigan United States Agricultural Export Excellence Award Board of Evaluators

AGENCY: Foreign Agricultural Service, USDA.

ACTION: Notice to reestablish board of evaluators.

SUMMARY: Notice is hereby given that the Secretary of Agriculture has reestablished the Edward R. Madigan United States Agricultural Export Excellence Award Board of Evaluators. The Secretary of Agriculture has determined that the Board is necessary and in the public interest.

FOR FURTHER INFORMATION CONTACT: Office of Trade Programs, Foreign Agricultural Service, USDA, Room 450 Portals, 1250 Maryland Avenue SW., Washington, DC 20024, telephone: (202) 690-0752, fax: (202) 690-3270, e-mail: Dale.Miller@fas.usda.gov.

SUPPLEMENTARY INFORMATION: The purpose of the Edward R. Madigan United States Agricultural Export Excellence Award Board of Evaluators is to advise the Secretary of Agriculture on the selection of recipients for the Edward R. Madigan United States Agricultural Export Excellence Award.

Dated: November 1, 2007.
Michael W. Yost,
Administrator, Foreign Agricultural Service.

[FR Doc. 07-5607 Filed 11-8-07; 8:45 am]

BILLING CODE 3410-10-M